DEPARTMENT OF TRANSPORTATION

Federal Aviation Administration

Order Limiting Scheduled Operations at John F. Kennedy International

AGENCY: Federal Aviation Administration (FAA), DOT.

ACTION: Notice of temporary waiver of the minimum usage requirement.

SUMMARY: This action announces a temporary waiver of the usage requirements necessary to hold Operating Authorizations at John F. Kennedy International Airport (JFK). This policy is effective from March 1 through November 14, 2010.

DATES: Effective Date: March 1, 2010.

FOR FURTHER INFORMATION CONTACT: James Tegtmeier, Associate Chief Counsel for the Air Traffic Organization, AGC-40, Federal Aviation Administration, 800 Independence Avenue, SW., Washington, DC 20591; telephone number (202) 267-8323; e-mail james.tegtmeier@faa.gov.

SUPPLEMENTARY INFORMATION:

Background

Beginning in March 2010, there will be runway and airfield construction at JFK that will temporarily affect operations at the airport. Runway 13R/31L is the airport's most frequently used and longest runway. The Port Authority of New York and New Jersey (Port Authority) indicates the runway historically accommodates a significant percentage of the annual air traffic operations at JFK, particularly departures. The Port Authority plans to resurface the runway with concrete and widen it to accommodate new large aircraft and to help prevent ice ingestion. In addition, the Port Authority will install new runway lighting, electrical infrastructure, and a new electrical feeder system to the runway. The Port Authority opted for a more extensive rehabilitation project to provide for a 40-year design life by surfacing with concrete instead of an 8-year design life with asphalt; however, the project will render Runway 13R/31L unavailable from March 1 until June 30, 2010. The western two-thirds of the runway will reopen July 1, but its use will be limited under some weather and operating conditions, primarily because some high-speed runway turnoffs and navigational aids (NAVAIDS) will be unavailable until later in the construction period. On September 15, Runway 4L/22R will close until September 30 to resurface its intersection with Runway 13R/31L. The entire Runway 13R/31L and its associated NAVAIDS will be fully functional on November 15, 2010.

The FAA, the Port Authority, JFK operators, and other stakeholders have been meeting regularly to identify ways to mitigate congestion and delay in light of the runway and airfield construction. Surface management of aircraft requires further study, as some runway configurations may increase ground congestion, but we will continue to work to maximize the available infrastructure. In addition, we have identified preferred alternative runway configurations.

The FAA worked with MITRE's Center for Advanced Aviation System Development (CAASD) to estimate the capacity and potential delay impacts of the loss of Runway 13R/31L. MITRE CAASD and the FAA looked at historic runway configurations and operating conditions and the likely runway configurations that would substitute for Runway 13R/31L. Modeling compared the March, April, May, and June 2009 flight schedules by month against historic capacity and then against projected capacity in the same months for 2010, when Runway 13R/31L is closed. In each month, delays would increase over the corresponding month in 2009. The modeled peak afternoon and evening departure delays would increase significantly with the April-June schedules, adding about an average of ten minutes per aircraft. The modeled peak delays using March 2009 schedules and the construction capacity would remain within the levels accepted for the 2008 scheduling limits.

The FAA initiated discussions with the largest carriers at the airport, and they have agreed to keep their schedules at March 2009 levels from March 1 until at least July 1. In addition, those carriers and others have expressed concern about the operations for the remaining months of the construction and have agreed to cancel some flights even after Runway 13R/31L returns to partial service after June 30. This will assist in mitigating delays throughout the construction period.

Under the FAA's order limiting scheduled operations at JFK, Operating Authorizations must be used at least 80 percent of the time they are allocated or they will be withdrawn. Historic precedence is given for the next scheduling season only for Operating Authorizations that meet the minimum usage threshold for the corresponding period during the prior scheduling season. The FAA may grant a waiver from the minimum usage requirements in highly unusual and unpredictable conditions that are beyond the control of the carrier and affect carrier operations for a period of five consecutive days or more.

Statement of Policy

The FAA has determined that the projected operational, congestion, and delay impacts of the 2010 runway and airfield construction program meet the requirements for a temporary waiver of the minimum usage rule at JFK. Absent a waiver, carriers would be required to operate flights in order to meet the minimum usage rules or to find another carrier to operate them. With the capacity impacts during the construction, the public interest supports a reduction in operations in order to minimize delays and improve on-time performance. Under the circumstances, carriers that temporarily reduce flights or elect to temporarily return Operating Authorizations to the FAA rather than transfer them for another carrier's use should not be penalized by permanently losing the authority to operate. The FAA appreciates that some carriers have already agreed voluntarily to postpone traditional summer flight increases. In light of this minimum usage waiver, we expect that other carriers may also temporarily limit their summer 2010 operations.

This minimum usage waiver applies only to Operating Authorizations at JFK. Carriers generally must provide advance notice of cancellations to the FAA Slot Administration Office in order to obtain a waiver. However, there may be times when delays are excessive and carriers elect to cancel flights shortly before their scheduled operation. The operational cancellation of a scheduled flight under these circumstances may still qualify for a usage waiver, provided that it is reported as a delay-related cancellation on the usage report submitted to the FAA by the carrier. Information on the use of Operating Authorizations should be provided to the Slot Administration Office by e-mail at 7-awa-slotadmin@faa.gov or by facsimile at (202) 267-7277.

In consideration of the above, the FAA is waiving the minimum usage requirement for Operating Authorizations at JFK from March 1 through November 14, 2010.

Issued in Washington, DC, on October 6, 2009.
J. David Grizzle,
Chief Counsel.

[FR Doc. E9-24663 Filed 10-13-09; 8:45 am]

BILLING CODE 4910-13-P